DEPARTMENT OF HOMELAND SECURITY

Transportation Security Administration

Reports, Forms, and Record Keeping Requirements: Agency Information Collection Activity Under OMB Review; Flight Crew Self-Defense Training— Registration and Evaluation

AGENCY: Transportation Security Administration (TSA), DHS.

ACTION: Notice of emergency clearance request.

SUMMARY: The U.S. Department of Homeland Security, Transportation Security Administration, has submitted a request for emergency processing of a new public information collection to the Office of Management and Budget (OMB) for review and clearance under the Paperwork Reduction Act of 1995 (Pub. L. 104-13, 44 U.S.C. 35). This notice announces that the Information Collection Request (ICR) abstracted below has been forwarded to OMB for review and comment. The ICR describes the nature of the information collection and its expected burden.

DATES: Send your comments by December 22, 2004. A comment to OMB is most effective if OMB receives it within 30 days of publication.

ADDRESSES: Comments may be faxed to the Office of Information and Regulatory Affairs, Office of Management and Budget, Attention: DHS-TSA Desk Officer, at (202) 395-5806.

FOR FURTHER INFORMATION CONTACT: Lisa Dean, Privacy Officer, Office of Transportation Security Policy, TSA-9, Transportation Security Administration, 601 South 12th Street, Arlington, VA 22202-4220; telephone (571) 227-3947; facsimile (571) 227-2555.

SUPPLEMENTARY INFORMATION:

Transportation Security Administration

Title: Flight Crew Self-Defense Training—Registration and Evaluation.

Type of Request: Emergency processing request of new collection.

OMB Control Number: Not yet assigned.

Form(s): “Level 1 End-of-Course Evaluation”

Affected Public: Flight and cabin crew on commercial passenger and cargo flights.

Abstract: Section 603 of Vision 100—Century of Aviation Reauthorization Act (Pub. L. 108-176) requires TSA to develop and provide a voluntary advanced self-defense training program for flight and cabin crew members of air carriers providing scheduled passenger air transportation. This collection would allow TSA to collect enrollment information from volunteer flight and cabin crew members who wish to register for self-defense classes, and would permit TSA to solicit voluntary feedback on the quality of the training. Due to an impending statutory deadline, TSA is seeking an emergency three-month authorization, until February 2005, to collect this information.

TSA seeks emergency approval for a collection of information that would permit flight and cabin crew members to register for self-defense classes, and would solicit voluntary feedback from participants on the quality of the training. Registration information would be gathered from volunteers for purposes of registering them for a self-defense program, confirming that they are eligible for that program (i.e., that they are an active flight or cabin crew member for a commercial or cargo air carrier), and to confirm attendance at the self-defense classes. The information that would be collected during the registration process consists of the volunteer's identifying information (such as the volunteer's name and employee number), the name of the volunteer's employer, and contact information. There would be no form used for registration because it will occur through local community colleges throughout the country. Applicants will register through whatever the normal registration process is for the community college that is offering the course in their area.

After training is completed, TSA would solicit written feedback from trainees by using a standard TSA form (attached). Completion of this form would be voluntary and anonymous.

Number of Respondents: 3,000.

Estimated Annual Burden Hours: An estimated 750 hours annually.

Estimated Annual Cost Burden: $0.00.

TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

Issued in Arlington, Virginia, on November 4, 2004.
Lisa S. Dean,
Privacy Officer.

[FR Doc. 04-25802 Filed 11-19-04; 8:45 am]

BILLING CODE 4910-62-U